DEPARTMENT OF ENERGY

Federal Energy Regulatory Commission

[Docket No. CP23-15-000]

ANR Pipeline Company; Notice of Schedule for the Preparation of an Environmental Assessment for the Wisconsin Reliability Project

On November 14, 2022, ANR Pipeline Company (ANR) filed an application in Docket No. CP23-15-000 requesting a Certificate of Public Convenience and Necessity pursuant to Section 7(c) of the Natural Gas Act to construct and operate certain natural gas pipeline facilities. The proposed project is known as the Wisconsin Reliability Project (Project), and would provide about 150,000 dekatherms of natural gas per day to the state of Wisconsin.

On November 28, 2022, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹

¹ 40 CFR 1501.10 (2020)

Schedule for Environmental Review

Issuance of EA July 21, 2023

90-day Federal Authorization Decision Deadline ² October 19, 2023

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

The Wisconsin Reliability Project would consist of the following facilities:

• installation of two new 3,750 horsepower (hp) Dual Drive Technologies, Ltd.™ (dual-drive) ³ compressor units, removal of five existing compressor units, and uprate of one existing unit at the existing Kewaskum Compressor Station in Sheboygan County, Wisconsin;

³ Dual Drive Technologies, Ltd.™ units are redundant prime mover systems comprised of a combination electric motor connected to an engine for powering a gas compressor. These units can switch between electricity and natural gas in the event of an abnormal operating event (e.g., power outage) to provide enhanced system reliability and maintain customer commitments.

• installation of two new 3,750 hp dual-drive compressor units, removal of one existing compressor unit, installation of an electric substation, and upsizing of station inlet and discharge piping at the existing Weyauwega Compressor Station in Waupaca County, Wisconsin;

• replacement of approximately 48 miles of existing, 14-inch-diameter and 22-inch-diameter Line 301 with 30-inch-diameter and 36-inch-diameter pipeline, and existing 24-inch-diameter Line 226 with 30-inch-diameter pipeline in the counties of Washington, Waukesha, Waupaca, Outagamie, and Winnebago counties Wisconsin, as well as Mc Henry County, Illinois;

• expansion of the existing Lena, Merrill, Oshkosh, South Wausau, Stevens Point, and Two Rivers meter stations to accommodate deliveries of incremental capacity in the counties of Oconto, Lincoln, Winnebago, Marathon, Portage, and Manitowoc, Wisconsin; and

• other minor appurtenant facilities.

The general location of the Project facilities is shown in appendix 1.⁴

⁴ The appendices referenced in this notice will not appear in the Federal Register. Copies of the appendices were sent to all those receiving this notice in the mail and are available at www.ferc.gov using the link called “eLibrary.” For instructions on connecting to eLibrary, refer to the last page of this notice. At this time, the Commission has suspended access to the Commission's Public Reference Room due to the proclamation declaring a National Emergency concerning the Novel Coronavirus Disease (COVID-19), issued by the President on March 13, 2020. For assistance, contact FERC at FERCOnlineSupport@ferc.gov or call toll free, (886) 208-3676 or TTY (202) 502-8659.

Construction of the proposed facilities would disturb about 1,044.3 acres of land for the aboveground facilities upgrades and pipeline modifications. Following construction, ANR would maintain about 466.7 acres for permanent operation of the Project's pipeline facilities and 36.4 acres for operation of the aboveground facilities; the remaining acreage would be restored and revert to former uses. A majority of the proposed pipeline route parallels existing pipeline, utility, or road rights-of-way, or would be installed within the same footprint of the existing pipe segment to replaced.

Background

On July 8, 2022, the Commission issued a Notice of Scoping Period Requesting Comments on Environmental Issues for the Planned Wisconsin Reliability Project and Notice of Public Scoping Session (Notice of Scoping). The Notice of Scoping was issued during the pre-filing review of the Project in Docket No. PF22-5-000 and was sent to affected landowners; federal, state, and local government agencies; elected officials; environmental and public interest groups; Native American tribes; other interested parties; and local libraries and newspapers. In response to the Notice of Scoping, the Commission received comments from Washington County, National Park Service, U.S. Environmental Protection Agency, and several landowners. The primary issues raised by the commenters were concerns with construction impacts, wetland and wildlife, air quality, and land use. All substantive comments will be addressed in the EA.

Wisconsin Department of Natural Resources, Wisconsin Department of Agriculture, U.S. Environmental Protection Agency, and U.S. Army Corps of Engineers are cooperating agencies in the preparation of the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

Additional information about the Project is available from the Commission's Office of External Affairs at (866) 208-FERC or on the FERC website (www.ferc.gov). Using the “eLibrary” link, select “General Search” from the eLibrary menu, enter the selected date range and “Docket Number” excluding the last three digits (i.e., CP23-15), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: January 30, 2023.
Kimberly D. Bose,
Secretary.

[FR Doc. 2023-02300 Filed 2-2-23; 8:45 am]

BILLING CODE 6717-01-P